INTERNATIONAL TRADE COMMISSION

[Investigation No. 731-TA-377 (Second Review)]

Internal Combustion Industrial Forklift Trucks From Japan

Determination

On the basis of the record ¹ developed in the subject five-year review, the United States International Trade Commission (Commission) determines, pursuant to section 751(c) of the Tariff Act of 1930 (19 U.S.C. 1675(c)) (the Act), that revocation of the antidumping duty order on internal combustion industrial forklift trucks from Japan would not be likely to lead to continuation or recurrence of material injury to an industry in the United States within a reasonably foreseeable time.

¹ The record is defined in sec. 207.2(f) of the Commission's Rules of Practice and Procedure (19 CFR 207.2(f)).

Background

The Commission instituted this review on March 1, 2005 (70 FR 9971) and determined on June 6, 2005 that it would conduct a full review (70 FR 36657, June 24, 2005). Notice of the scheduling of the Commission's review and of a public hearing to be held in connection therewith was given by posting copies of the notice in the Office of the Secretary, U.S. International Trade Commission, Washington, DC, and by publishing the notice in the Federal Register on July 7, 2005 (70 FR 39333). The hearing was held in Washington, DC, on November 1, 2005, and all persons who requested the opportunity were permitted to appear in person or by counsel.

The Commission transmitted its determination in this review to the Secretary of Commerce on January 25, 2006. The views of the Commission are contained in USITC Publication 3831 (December 2005), entitled Internal Combustion Industrial Forklift Trucks from Japan: Investigation No. 731-TA-377 (Second Review).

By order of the Commission.
Issued: January 26, 2006.
Marilyn R. Abbott,
Secretary to the Commission.

[FR Doc. E6-1212 Filed 1-30-06; 8:45 am]

BILLING CODE 7020-02-P